DEPARTMENT OF THE INTERIOR

Fish and Wildlife Service

[FWS-R3-ES-2008-N0252; 30120-1113-0000-F6]

Endangered and Threatened Species Permit Applications

AGENCY: Fish and Wildlife Service, Interior.

ACTION: Notice of availability of permit applications; request for comments.

SUMMARY: The following applicants have applied for permits to conduct certain activities with endangered species.

DATES: We must receive written comments on or before November 13, 2008.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender (612) 713-5343.

SUPPLEMENTARY INFORMATION:

Endangered Species

The Endangered Species Act of 1973, as amended (16 U.S.C. 1531 et seq. ) (Act), with some exceptions, prohibits activities affecting endangered species unless authorized by a permit from the Fish and Wildlife Service. Before issuing a permit, we invite public comment on it. Accordingly, we invite public comment on the following applicants' permit applications for certain activities with endangered species authorized by section 10(a)(1)(A) of the Act and the regulations governing the taking of endangered species (50 CFR 17). Submit your written data, comments, or request for a copy of the complete application to the address shown in ADDRESSES.

Permit Number: TE187501

Applicant: Hocking College, Nelsonville, Ohio.

The applicant requests a permit to take Indiana bats (Myotis sodalis) throughout the State of Ohio in conjunction with the Ohio Department of Transportation roadway projects. The applicant requests authorization to conduct presence/absence surveys; assess habitat characteristics associated with foraging, roosting and rearing of offspring; and evaluate the ecology of adult and juvenile bats. Proposed “take” is in the form of capturing, handling, and radiotagging. Proposed research activities are aimed at enhancement of recovery of the species in the wild.

Permit Number: TE191225

Applicant: Kathleen A. Dunlap, Columbus, Ohio.

The applicant requests a permit to take Indiana bats (Myotis sodalis) throughout the States of Ohio, Indiana, Michigan, Kentucky, and West Virginia. The activities proposed involve capture using mist nets and harp traps and marking of individual bats to identify populations of this listed species and to develop methods to minimize or avoid project-related impacts. Applicant seeks to provide site assessments and pre-construction surveys for projects such as highway and other development projects. Survey data are used to assist with development of project design features aimed at enhancement of survival of the species in the wild.

Permit Number: TE838715

Applicant: The Nature Conservancy, Swanton, Ohio.

The applicant requests a renewal of their permit to take Karner blue butterflies (Lycaeides melissa samuelis) at the Kitty Todd Nature Preserve in Northwest Ohio. The activities proposed involve habitat management in the form of prescribed burning, mowing, exotic species control, woody plant control, establishment of oaks, and management of plant community succession. Specified habitat management activities are proposed to enhance the survival of this disturbance-dependent species in the wild.

Permit Number: TE192348

Applicant: USDA-U.S. Forest Service, Mark Twain National Forest, Rolla, Missouri.

The applicant requests a permit to take (harass) Indiana bats (Myotis sodalis), Gray bats (Myotis grisescens), and Ozark big-eared bats (Corynorhinus townscendii ingens). The applicant proposes to survey and inventory cave resources throughout the Mark Twain National Forest. Disturbance to bats may occur while entering these caves. No direct handling of bats is proposed; disturbance may occur through temporary arousal of hibernating bats. Activities are proposed to enhance the survival of the species in the wild by providing biological data regarding status of bats within cave resources in the forest.

Permit Number: TE193614

Applicant: Mainstream Commercial Divers, Inc., Murray, Kentucky.

The applicant requests a permit renewal to take listed mussel species throughout Alabama, Arkansas, Florida, Georgia, Illinois, Indiana, Iowa, Kentucky, Minnesota, Mississippi, Missouri, Ohio, Pennsylvania, Tennessee, West Virginia, and Wisconsin. Activities include diving surveys to determine presence/absence of listed species involving capture and temporary holding of specimens for identification purposes. Data collected will assist entities involved in construction projects, such as bridge projects and others, in implementing measures to protect species in the design of their projects. Therefore, the scientific research is aimed at enhancement of survival of the species in the wild.

Permit Number: TE194099

Applicant: Dr. Michael A. Hoggarth, Otterbein College, Westerville, Ohio.

The applicant requests a permit renewal to take listed mussel species throughout the State of Ohio. Take activities include surveys to determine presence/absence and to monitor populations of listed species. This involves capture, temporary holding of specimens, and release at or near the location of capture. Status surveys and monitoring data collected will assist the State Wildlife Agency and the U.S. Fish and Wildlife Service in recovery activities for the species. Therefore, the scientific research is aimed at enhancement of survival of the species in the wild.

Permit Number: TE195082

Applicant: Dr. Thomas E. Tomasi, Missouri State University, Springfield, Missouri.

The applicant requests a permit renewal to take Indiana bats (Myotis sodalis) and Gray bats (Myotis grisescens) in selected locations within New York, Pennsylvania, and Missouri. While these endangered bats are not the direct subject of the research, take is possible in the form of disturbance to hibernation by arousal while conducting pathology studies for little brown bats. Data collected will assist in the study of an apparent disease epidemic (white nose syndrome) in the bat community. Through collection of important epidemiological data, this scientific research is aimed at enhancement of survival of the species in the wild.

Public Comments

We solicit public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information-may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement.

Dated: September 22, 2008.
Lynn M. Lewis,
Assistant Regional Director, Ecological Services, Region 3, Fort Snelling, Minnesota.

[FR Doc. E8-24251 Filed 10-10-08; 8:45 am]

BILLING CODE 4310-55-P